DEPARTMENT OF AGRICULTURE

Agricultural Marketing Service

[Docket No. FV-05-333]

United States Standards for Grades of Canned Pears

AGENCY: Agricultural Marketing Service, USDA.

ACTION: Notice.

SUMMARY: The Agricultural Marketing Service (AMS) of the Department of Agriculture (USDA) is revising the United States Standards for Grades of Canned Pears. AMS received two petitions, one from a grower cooperative, the other from a processor, requesting that USDA change the character classification for Grade “B”, slices, and diced, to read “the units are reasonably tender or tenderness may be variable within the unit.” This change was requested by the industry in order to bring the standards for canned pears in line with the present quality levels being marketed today and provide guidance in the effective utilization of canned pears.

EFFECTIVE DATE: November 29, 2004.

FOR FURTHER INFORMATION CONTACT: Karen L. Kaufman, Processed Products Branch, Fruit and Vegetable Programs, Agricultural Marketing Service, U.S. Department of Agriculture, STOP 0247, 1400 Independence Avenue SW., Washington, DC 20250-0247; fax (202) 690-1087 or e-mail at karen.kaufman@usda.gov. The final United States Standards for Grades of Canned Pears, will be available either through the address cited above or by accessing the AMS Home Page on the Web at “http://www.ams.usda.gov/standards/frutcan.htm.”

SUPPLEMENTARY INFORMATION: Section 203(c) of the Agricultural Marketing Act of 1946, as amended, directs and authorizes the Secretary of Agriculture “to develop and improve standards of quality, condition, quantity, grade and packaging and recommend and demonstrate such standards in order to encourage uniformity and consistency in commercial practices * * *.” AMS is committed to carrying out this authority in a manner that facilitates the marketing of agricultural commodities and makes copies of official standards available upon request. Those United States Standards for Grades of Fruits and Vegetables no longer appear in the Code of Federal Regulations but are maintained by USDA/AMS/Fruit and Vegetable Programs.

AMS is revising the U.S. Standards for Grades of Canned Pears using the procedures that appear in Part 36 of Title 7 of the Code of Federal Regulations (7 CFR Part 36).

Proposed by the Petitioner

AMS received two petitions, one from a grower cooperative and the other from a processor, requesting the revision of the United States Standards for Grades of Canned Pears. The standards are established under the authority of the Agricultural Marketing Act of 1946 (7 U.S.C. 1621-1627). The petitioners represent growers from Washington State, Oregon and parts of California.

The petitioners are requesting that USDA change the character classification for Grade “B”, slices, and diced, canned pears. The petitioners believe the change in the standard will improve the economic position of domestic growers of pears.

Prior to undertaking research and other work associated with revising the grade standards, AMS decided to seek public comments on the petition. A notice requesting comments on the petition to revise the United States Standards for Grades of Canned Pears was published in the January 21, 2004, Federal Register (69 FR 2885). A second notice was published in the July 21, 2004, Federal Register (69 FR 139) based on comments received from the first notice. AMS received one comment in response to the second notice. The comment favored the revision to the standard. These comments are available by accessing AMS's Home Page on the Internet at: http://www.ams.usda.gov/fv/ppb.html.

Based on the comments, AMS is revising the standard for canned pears following the standard format for U.S. Grade Standards. The revision will change the character classification for Grade “B”, slices, and diced, style canned pears by including the following: “the units are reasonably tender or the tenderness may be variable within the unit.” The current standard contains this wording for character classifications for halves, quarters, pieces or irregular pieces and whole pears.

This revision will provide a common language for trade, a means of measuring value in the marketing of canned pears, and provide guidance in the effective utilization of canned pears. The official grade of a lot of canned pears covered by these standards will be determined by the procedures set forth in the Regulations Governing Inspection and Certification of Processed Products Thereof, and Certain Other Processed Food Products (§ 52.1 to 52.83).

The U.S. Standards for Grades of Canned Pears will become effective 30 days after publication of this notice in the Federal Register.

Authority: 7 U.S.C. 1621-1627.

Dated: October 25, 2004.
A.J. Yates,
Administrator, Agricultural Marketing Service.

[FR Doc. 04-24161 Filed 10-28-04; 8:45 am]

BILLING CODE 3410-02-P